FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 21, 2016.

A. Federal Reserve Bank of Chicago (Colette A. Fried, Assistant Vice President) 230 South LaSalle Street, Chicago, Illinois 60690-1414:

1. Thomas R. Bernau, Des Moines, Iowa, and John W. Bernau, Manchester, Iowa, each individually and as co-trustees of the Kay J. A. Bernau Marital Election Trust and the Kay J. A. Bernau Marital Trust; and together as a family control group acting in concert with the Bernau Family Control Group consisting of the William R. and Kay J. A. Bernau Family Trust for Thomas R. Bernau and the William R. and Kay J. A. Bernau Family Trust for John W. Bernau, all of Iowa City, Iowa; to retain voting shares of Country Bancorporation, and thereby indirectly retain voting shares of Peoples Savings Bank, both in Crawfordsville, Iowa; Walker State Bank, Walker, Iowa; Center Point Bank and Trust Company, Center Point, Iowa; Peoples Trust and Savings Bank, Riverside, Iowa; Hiawatha Bank and Trust Company, Hiawatha, Iowa; White State Bank, South English, Iowa; The Exchange State Bank, Springville, Iowa; Lone Tree Service Company, Lone Tree, Iowa, and Farmers and Merchants Savings Bank, Iowa City, Iowa.

Board of Governors of the Federal Reserve System, March 1, 2016.
Michael J. Lewandowski,
Associate Secretary of the Board.

[FR Doc. 2016-04819 Filed 3-3-16; 8:45 am]

BILLING CODE 6210-01-P